SMALL BUSINESS ADMINISTRATION

National Small Business Development Center Advisory Board; Public Meeting

The U.S. Small Business Administration National Small Business Development Center Advisory Board will hold a public meeting on Sunday, August 4, 2002, from 11 a.m. to 5 p.m. EST in the Berkshire Room at the Clarion Hotel and Conference Center in Northampton, Massachusetts to discuss such matters as may be presented by members, staff of the U.S. Small Business Administration or others present.

Anyone wishing to make an oral presentation to the Board must contact Chancy Lyford, in writing by letter or fax no later than August 2, 2002 in order to be included on the agenda. For further information, please write or call Mr. Chancy Lyford, Designated Federal Officer, U.S. Small Business Administration, 409 Third Street., SW., Sixth Floor, Washington, DC 20416. Telephone number (202) 205-7159, FAX (202) 205-7727.

Kim Mace,
Committee Management Specialist.

[FR Doc. 02-18520 Filed 7-22-02; 8:45 am]

BILLING CODE 8025-01-P